DEPARTMENT OF HOUSING AND URBAN DEVELOPMENT

[Docket No. FR-7070-N-54]

30-Day Notice of Proposed Information Collection: 24 CFR Part 58, Environmental Review Procedures for Entities Assuming HUD Environmental Responsibilities; OMB Control No.: 2506-0087

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: October 13, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 7th Street SW, Room 8210, Washington, DC 20410; email; Colette.Pollard@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on July 7, 2023, at 88 FR 43370.

A. Overview of Information Collection

Title of Information Collection: 24 CFR part 58—Environmental Review Procedures for Entities Assuming HUD Environmental Review Responsibilities.

OMB Approval Number: 2506-0087.

Type of Request: Revision of currently approved collection.

Form Numbers: HUD-7015.15; TDAT Interim Data Updates Request Form.

Description of the need for the information and proposed use: The RROF/C is used to document compliance with the National Environmental Policy Act (NEPA) and the related environmental statues, executive orders, and authorities in accordance with the procedures identified in 24 CFR part 58. Recipients certify compliance and make request for release of funds.

Respondents: State, local, and tribal governments and nonprofit organizations.

Estimated Number of Respondents: 19,555.

Estimated Number of Responses: 19,555.

Frequency of Response: 1.

Average Hours per Response: .6.

Total Estimated Burdens: 11,733 hours.

Description of the need for the information and proposed use: The Tribal Directory Assessment Tool (TDAT) Interim Data Updates Request Form allows tribal historic preservation staff from federally recognized tribes to update their tribe's information within TDAT to ensure the most up-to-date contact information and tribal interests are listed. TDAT is an online database that enables HUD users to access contact information for Tribal Leaders and Tribal Historic Preservation Officers for federally recognized Tribes for the purposes of conducting Section 106 tribal consultation under the National Historic Preservation Act.

Respondents: State, local, and tribal governments and nonprofit organizations.

Estimated Number of Respondents: 233.

Estimated Number of Responses: 233.

Frequency of Response: 1.

Average Hours per Response: .25.

Total Estimated Burdens: 58.25 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Colette Pollard,
Department Reports Management Officer, Office of Policy Development and Research, Chief Data Officer.

[FR Doc. 2023-19781 Filed 9-12-23; 8:45 am]

BILLING CODE 4210-67-P